DEPARTMENT OF COMMERCE

Submission for OMB Review; Comment Request

DOC has submitted to the Office of Management and Budget (OMB) for clearance the following proposal for collection of information under the provisions of the Paperwork Reduction Act (44 U.S.C. chapter 35).

Agency: Census Bureau.

Title: 2002 Economic Census Covering the Mining Sector.

Form Number(s): MI-21101, MI-21102, MI-21201, MI-21202, MI-21203, MI-21204, MI-21205, MI-21206, MI-21207, MI-21208, MI-21209, MI-21210, MI-21211, MI-21301, MI-21302.

Agency Approval Number: None.

Type of Request: New collection.

Burden: 55,080 hours in FY 2003.

Number of Respondents: 14,500.

Avg Hours Per Response: 3 hours and 50 minutes.

Needs and Uses: The 2002 Economic Census covering the Mining Sector will use a mail canvass, supplemented by data from Federal administrative records, to measure the economic activity of approximately 25,000 mining establishments classified in the North American Industry Classification System (NAICS). The mining sector of the economic census distinguishes two basic activities: mine operation and mining support activities. The economic census will produce basic statistics for number of establishments, shipments, payroll, employment, detailed supplies and fuels consumed, depreciable assets, inventories, and capital expenditures. It also will yield a variety of subject statistics, including shipments by product line, type of operation, size of establishments and other industry-specific measures.

The mining sector is an integral part of the economic census which is the major source of data about the structure and functioning of the United States economy, and features unique industry and geographic detail. The economic census provides essential information for government, industry, business, and the general public. The Federal Government uses the information from the economic census as an important part of the framework for the national accounts, input-output measures, key economic indexes, and other estimates that serve as the factual basis for economic policymaking, planning, and administration. State governments rely on the economic census for comprehensive, geographical economic data in order to make decisions concerning policymaking, planning, and administration. Finally, industry, business, and the general public use information from the economic census for economic forecasting, market research, as benchmarks for their own sample-based surveys, and in making business and financial decisions.

Affected Public: Business or other for-profit.

Frequency: One time.

Respondent's Obligation: Mandatory.

Legal Authority: Title 13 U.S.C., Sections 131 and 224.

OMB Desk Officer: Susan Schechter, (202) 395-5103.

Copies of the above information collection proposal can be obtained by calling or writing Madeleine Clayton, Departmental Paperwork Clearance Officer, (202)482-3129, Department of Commerce, room 6608, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: April 26, 2002.
Madeleine Clayton,
Departmental Paperwork Clearance Officer, Office of the Chief Information Officer.

[FR Doc. 02-10719 Filed 4-30-02; 8:45 am]

BILLING CODE 3510-07-P